DEPARTMENT OF STATE

[Public Notice: 10687]

Bureau of Political-Military Affairs, Directorate of Defense Trade Controls: Notifications to the Congress of Proposed Commercial Export Licenses

AGENCY: Department of State.

ACTION: Notice.

SUMMARY: Notice is hereby given that the Department of State has forwarded the attached Notifications of Proposed Export Licenses to the Congress on the dates indicated on the attachments.

DATES: As shown on each of the 61 letters.

FOR FURTHER INFORMATION CONTACT: Mr. Anthony M. Dearth, Directorate of Defense Trade Controls, Department of State, telephone (202) 663-2836; email DDTCResponseTeam@state.gov. ATTN: Congressional Notification of Licenses.

SUPPLEMENTARY INFORMATION: Pursuant to section 36(c) and 36(d), and in compliance with section 36(f), of the Arms Export Control Act. Section 36(d) of the Arms Export Control Act (22 U.S.C. 2776) mandates that notifications to the Congress pursuant to sections 36(c) and 36(d) must be published in a timely manner in the Federal Register, upon transmittal to Congress.

Following are such notifications to the Congress:

April 16, 2018

The Honorable Paul D. Ryan, Speaker of the House of Representatives.

Dear Mr. Speaker:

Pursuant to Section 36(c) of the Arms Export Control Act, I am transmitting certification of a license for the transfer of defense articles, including technical data, and defense services in the amount of $50,000,000 or more.

The transaction contained in the attached certification involves the transfer of defense articles, including technical data, and defense services to provide training, maintenance, and engineering support on AT-802U and S2R-660 Archangel border patrol aircraft for end use by the Armed Forces of the UAE.

The U.S. government is prepared to license the export of these items having taken into account political, military, economic, human rights, and arms control considerations.

More detailed information is contained in the formal certification which, though unclassified, contains business information submitted to the Department by the applicant, publication of which could cause competitive harm to the U.S. firm concerned.

Sincerely,

Mary K. Waters,

Assistant Secretary Legislative Affairs.

Enclosure: Transmittal No. DDTC 16-081.

April 6, 2018

The Honorable Paul D. Ryan, Speaker of the House of Representatives.

Dear Mr. Speaker:

Pursuant to Section 36(c) of the Arms Export Control Act, we are transmitting certification of a proposed license for the export of firearms, parts, and accessories abroad controlled under Category I of the United States Munitions List in the amount of $1,000,000 or more.

The transaction contained in the attached certification involves the export of fully automatic machine guns, gun barrels, spare parts, and accessories to Bahrain.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary, Assistant Secretary Legislative Affairs.

Enclosure: Transmittal No. DDTC 16-097.

April 6, 2018

The Honorable Paul D. Ryan, Speaker of the House of Representative.

Dear Mr. Speaker:

Pursuant to Section 36(c) of the Arms Export Control Act, we are transmitting certification of a proposed license for the export of firearms, parts, and accessories abroad controlled under Category I of the United States Munitions List in the amount of $1,000,000 or more.

The transaction contained in the attached certification involves the export of machine guns, spare parts, and accessories to Saudi Arabia.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary, Assistant Secretary Legislative Affairs.

Enclosure: Transmittal No. DDTC 16-118.

April 16, 2018

The Honorable Paul D. Ryan, Speaker of the House of Representatives.

Dear Mr. Speaker:

Pursuant to Section 36(c) of the Arms Export Control Act, we are transmitting certification of a proposed license for the export of defense articles, including technical data, and defense services, in the amount of $50,000,000 or more.

The transaction contained in the attached certification involves the export of radios, parts, and components, for integration and installation into military vehicles of the UAE.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Acting Assistant Secretary Legislative Affairs.

Enclosure: Transmittal No. DDTC 17-009.

August 20, 2018

The Honorable Paul D. Ryan, Speaker of the House of Representatives.

Dear Mr. Speaker:

Pursuant to Section 36(c) of the Arms Export Control Act, we are transmitting certification of a proposed license for the export of firearms accessories and parts abroad controlled under Category I of the U.S. Munitions List in the amount of $1,000,000 or more.

The transaction contained in the attached certification involves the export of upper receiver assemblies with 14.5 inch barrels and lower parts kits to the UAE.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Assistant Secretary Legislative Affairs.

Enclosure: Transmittal No. DDTC 17-033.

April 16, 2018

The Honorable Paul D. Ryan, Speaker of the House of Representatives.

Dear Mr. Speaker:

Pursuant to Section 36(c) of the Arms Export Control Act, we are transmitting certification of a proposed license for the export of firearms and accessories abroad controlled under Category I of the United States Munitions List in the amount of $1,000,000 or more.

The transaction contained in the attached certification involves the export of 5.56mm rifles, suppressors, day optics with night vision settings, night vision monoculars, accessories and training to Saudi Arabia.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-054.

June 19, 2018

The Honorable Paul D. Ryan, Speaker of the House of Representatives.

Dear Mr. Speaker:

Pursuant to Section 36(c) of the Arms Export Control Act, we are transmitting certification of a proposed license for the export of firearms, parts, and accessories abroad controlled under Category I of the U.S. Munitions List in the amount of $1,000,000 or more.

The transaction contained in the attached certification involves the export of 5.56mm rifles, 7.62mm semi-automatic sniper systems, suppressors, grenade launchers, and accessories to Saudi Arabia.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Assistant Secretary Legislative Affairs.

Enclosure: Transmittal No. DDTC 17-055.

August 20, 2018

The Honorable Paul D. Ryan, Speaker of the House of Representatives.

Dear Mr. Speaker:

Pursuant to Section 36(c) of the Arms Export Control Act, we are transmitting certification of a proposed license for the export of firearms parts and accessories abroad controlled under Category I of the U.S. Munitions List in the amount of $1,000,000 or more.

The transaction contained in the attached certification involves the export of upper receiver assemblies with lower parts kits to the UAE.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-056.

April 6, 2018

The Honorable Paul D. Ryan, Speaker of the House of Representatives.

Dear Mr. Speaker:

Pursuant to Section 36(c) of the Arms Export Control Act, We are transmitting certification of a proposed license for the export of defense articles, including technical data, and defense services in the amount of $100,000,000 or more.

The transaction contained in the attached certification involves the export of defense articles, including technical data, and defense services to Norway to support the integration, installation, operation, training, testing, O-Level maintenance, and repair of F-135 propulsion systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-068.

May 18, 2018

The Honorable Paul D. Ryan, Speaker of the House of Representatives.

Dear Mr. Speaker:

Pursuant to Section 36(c) and (d) of the Arms Export Control Act, we are transmitting certification of a proposed license for the manufacture of significant military equipment abroad and the export of defense articles, including technical data, and defense services in the amount of 50,000,000 or more.

The transaction contained in the attached certification involves the export of defense articles, including technical data, and defense services to Algeria and United Kingdom to support the manufacture of the Falcon III tactical radio systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-070.

July 18, 2018

The Honorable Paul D. Ryan, Speaker of the House of Representatives.

Dear Mr. Speaker:

Pursuant to Section 36(d) of the Arms Export Control Act, we are transmitting certification of a proposed license for the export of defense articles, including technical data, and defense services for the manufacture of significant military equipment abroad.

The transaction contained in the attached certification involves the export of defense articles, including technical data, and defense services to Australia, New Zealand, Switzerland, and the United Kingdom to support the manufacture of the Communication, Navigation, and Identification (CNI) Audio Control Electronic (ACE) module for the F-35 Joint Strike Fighter Aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-074.

April 17, 2018

The Honorable Paul D. Ryan, Speaker of the House of Representatives.

Dear Mr. Speaker:

Pursuant to Sections 36(c) of the Arms Export Control Act, we are transmitting certification of a proposed license for the export of technical data and defense services in the amount of $100,000,000 or more.

The transaction contained in the attached certification involves the export of technical data, and defense services for the GA-ASI Type Certifiable Predator B UAS and prospective payloads to support the assessment, demonstration, and manufacture phase of the Scavenger/PROTECTOR program and the subsequent follow on phases for end-use by the Ministry of Defence, U.K.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-080.

April 16, 2018

The Honorable Paul D. Ryan, Speaker of the House of Representatives.

Dear Mr. Speaker:

Pursuant to Section 36(c) and (d) of the Arms Export Control Act, we are transmitting certification of a proposed license for the manufacture of significant military equipment abroad and the export of defense articles, including technical data, and defense services in the amount of $100,000,000 or more.

The transaction contained in the attached certification involves the export of defense articles, including technical data, and defense services to Israel to support the manufacture, integration, installation, operation, testing, maintenance, and repair of the 120mm GPS Phase 1 and (SAL/GPS) Phase 2 Dual Mode Mortar.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-087.

April 16, 2018

The Honorable Paul D. Ryan, Speaker of the House of Representatives.

Dear Mr. Speaker:

Pursuant to Section 36(c) of the Arms Export Control Act, we are transmitting certification of a proposed license amendment for the export of defense articles, including technical data, and defense services in the amount of $100,000,000 or more.

The transaction contained in the attached certification involves the export of defense articles, including technical data, and defense services to Italy to support the final assembly and check-out facility of F-35 aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-088.

April 17, 2018

The Honorable Paul D. Ryan, Speaker of the House of Representatives.

Dear Mr. Speaker:

Pursuant to Section 36(c) of the Arms Export Control Act, we are transmitting certification of a proposed license amendment for the export of defense articles, including technical data, and defense services in the amount of $100,000,000 or more.

The transaction contained in the attached certification involves the export of defense articles, including technical data, and defense services to Belgium, Norway and the UK to support the maintenance, repair and overhaul of F-100 aircraft engines.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-089.

July 11, 2018

The Honorable Paul D. Ryan, Speaker of the House of Representatives.

Dear Mr. Speaker:

Pursuant to Section 36(c) of the Arms Export Control Act, we are transmitting certification of a proposed license for the export of firearms, parts, and accessories abroad controlled under Category I of the U.S. Munitions List in the amount of $1,000,000 or more.

The transaction contained in the attached certification involves the export to Qatar of fully automatic 5.56mm carbines and commando rifles with accessories, operator's manuals and training.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-092.

July 5, 2018

The Honorable Paul D. Ryan, Speaker of the House of Representatives.

Dear Mr. Speaker:

Pursuant to Section 36(c) of the Arms Export Control Act, we are transmitting certification of a proposed license for the export of firearms, parts, and accessories abroad controlled under Category I of the U.S. Munitions List in the amount of $1,000,000 or more.

The transaction contained in the attached certification involves the export of 12.7 x 99mm and 7.62 x 51mm machine guns with primary and spare barrels and accessories for Saudi Arabia.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-093.

June 27, 2018

The Honorable Paul D. Ryan, Speaker of the House of Representatives.

Dear Mr. Speaker:

Pursuant to Section 36(d) of the Arms Export Control Act, we are transmitting certification of a proposed license for the export of defense articles, including technical data, and defense services for the manufacture of significant military equipment abroad.

The transaction contained in the attached certification involves the export of defense articles, including technical data, and defense services to the Republic of Korea to support the manufacture of the F414-GE-400 engine.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-098.

August 23, 2018

The Honorable Paul D. Ryan, Speaker of the House of Representatives.

Dear Mr. Speaker:

Pursuant to Section 36(c) of the Arms Export Control Act, we are transmitting certification of a proposed license for the export of defense articles, including technical data, and defense services in the amount of $14,000,000 or more.

The transaction contained in the attached certification involves the export of defense articles, including technical data, and defense services to the Philippines to support the integration, operation, demonstration, repair, testing, storage, shipping, modification, and maintenance of the Maverick Weapon System.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-100.

April 6, 2018

The Honorable Paul D. Ryan. Speaker of the House of Representatives.

Dear Mr. Speaker:

Pursuant to Section 36(d) of the Arms Export Control Act, we are transmitting certification of a proposed license for the export of defense articles, including technical data, and defense services for the manufacture of significant military equipment abroad.

The transaction contained in the attached certification involves the export of defense articles, including technical data, and defense services to Germany and Israel to support the design, development, and manufacture of magazines, grips, new variations of pistols, and other firearm components by Israel.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-102.

June 19, 2018

The Honorable Paul D. Ryan, Speaker of the House of Representatives.

Dear Mr. Speaker:

Pursuant to Section 36(c) of the Arms Export Control Act, we are transmitting certification of a proposed license amendment for the export of defense articles, including technical data, and defense services in the amount of $50,000,000 or more.

The transaction contained in the attached certification involves the export of defense articles, including technical data, and defense services to Poland, Colombia and Chile to support the pre-delivery requirements and post-delivery modification of S-70i helicopters to Chile.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-105.

April 6, 2018

The Honorable Paul D. Ryan, Speaker of the House of Representatives.

Dear Mr. Speaker:

Pursuant to Section 36(c) of the Arms Export Control Act, we are transmitting certification of a proposed license amendment for the export of defense articles, including technical data, and defense services in the amount of $100,000,000 or more.

The transaction contained in the attached certification involves the export of defense articles, including technical data, and defense services to Israel to support the Missile Firing Unit and Stunner Interceptor Subsystems of the David's Sling Weapon System.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-107.

July 5, 2018

The Honorable Paul D. Ryan, Speaker of the House of Representatives.

Dear Mr. Speaker:

Pursuant to Section 36(c) of the Arms Export Control Act, we are transmitting certification of a proposed license for the export of firearms, parts, and components abroad controlled under Category I of the U.S. Munitions List in the amount of $1,000,000 or more.

The transaction contained in the attached certification involves the export of automatic rifles, silences, and spare parts to Indonesia.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-108.

July 11, 2018

The Honorable Paul D. Ryan, Speaker of the House of Representatives.

Dear Mr. Speaker:

Pursuant to Section 36(c) of the Arms Export Control Act, We are transmitting certification of a proposed license for the export of firearms, parts, and components abroad controlled under Category I of the U.S. Munitions List in the amount of $1,000,000 or more.

The transaction contained in the attached certification involves the export of 7.62mm automatic machine gun systems, barrels, spare parts, components, technical data, and basic operator maintenance training to Saudi Arabia.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-109.

August 1, 2018

The Honorable Paul D. Ryan, Speaker of the House of Representatives.

Dear Mr. Speaker:

Pursuant to Section 36(c) and (d) of the Arms Export Control Act, we are transmitting certification of a proposed license for the manufacture of significant military equipment abroad and the export of defense articles, including technical data, and defense services in the amount of $100,000,000 or more.

The transaction contained in the attached certification involves the export of defense articles, including unclassified technical data, and defense services to Poland to support the manufacture and sustainment of the Patriot M903 Launching Station for the WISLA Patriot Air Defense System.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-110.

August 1, 2018

The Honorable Paul D. Ryan, Speaker of the House of Representatives.

Dear Mr. Speaker:

Pursuant to Section 36(d) of the Arms Export Control Act, we are transmitting certification of a proposed license for the export of defense articles, including technical data, and defense services for the manufacture of significant military equipment abroad.

The transaction contained in the attached certification involves the export of defense articles, including technical data, and defense services to Poland to support the manufacture, integration, verification, and repair of the Mobile Communication Node and Mobile Antenna Mast for WISLA Patriot Air Defense System.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-111.

April 17, 2018

The Honorable Paul D. Ryan, Speaker of the House of Representatives.

Dear Mr. Speaker:

Pursuant to Section 36(c) of the Arms Export Control Act, we are transmitting certification of a proposed license amendment for the export of defense articles, including technical data, and defense services in the amount of $100,000,000 or more.

The transaction contained in the attached certification involves the export of defense articles, including technical data, and defense services to France and Japan to support development and modification of maritime patrol aircraft for use by the government of Japan.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-117.

July 11, 2018

The Honorable Paul D. Ryan, Speaker of the House of Representatives.

Dear Mr. Speaker:

Pursuant to Section 36(c) and (d) of the Arms Export Control Act, we are transmitting certification of a proposed license for the manufacture of significant military equipment abroad and the export of defense articles, including technical data, and defense services in the amount of $100,000,000 or more.

The transaction contained in the attached certification involves the transfer of defense articles, to include technical data, and defense services to support the design, development, assembly, engineering integration, and manufacturing of the Advanced Medium Range Air-to-Air Missile (AMRAAM) propulsion sections.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-119.

April 6, 2018

The Honorable Paul D. Ryan, Speaker of the House of Representatives.

Dear Mr. Speaker:

Pursuant to Section 36(c) of the Arms Export Control Act, we are transmitting certification of a proposed license for the export of defense articles, including technical data, and defense services in the amount of $100,000,000 or more.

The transaction contained in the attached certification involves the export of defense articles, including technical data, and defense services to support qualification, modification, test, repair, and integration of components for Tamir Interceptor missiles for end-use by the Ministry of Defense for Israel.

The U.S. government is prepared to license the export of these items having taken into account political, military, economic, human rights, and arms control considerations. More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-120.

April 6, 2018

The Honorable Paul D. Ryan, Speaker of the House of Representatives.

Dear Mr. Speaker:

Pursuant to Sections 36(c) and (d) of the Arms Export Control Act, we are transmitting certification of a proposed license for the manufacture of significant military equipment abroad and the export of defense articles, including technical data, and defense services in the amount of $100,000,000 or more.

The transaction contained in the attached certification involves the export of defense articles, including technical data, and defense services to Canada and the United Kingdom for the production of Tomahawk Missile Electronic Assemblies.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-121.

August 20, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to Jordan to support maintenance and repair of AH-1 F/S Cobra Helicopters for use by the Royal Jordanian Air Force.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-123.

July 5, 2018

The Honorable Paul D. Ryan, Speaker of the House of Representatives.

Dear Mr. Speaker:

Pursuant to Section 36(c) of the Arms Export Control Act, we are transmitting certification of a proposed license for the manufacture of significant military equipment abroad and the export of defense articles, including technical data, and defense services in the amount of $1,000,000 or more.

The transaction contained in the attached certification involves the export of defense articles, including technical data, and defense services to Japan to support the manufacture of the Mk 45 Mod 4 gun system.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-130.

April 5, 2018

The Honorable Paul D. Ryan, Speaker of the House of Representatives.

Dear Mr. Speaker:

Pursuant to Section 36(c) of the Arms Export Control Act, we are transmitting certification of a proposed license for the export of firearms, parts, and components abroad controlled under Category I of the United States Munitions List in the amount of $1,000,000 or more.

The transaction contained in the attached certification involves the export of bolt action rifles and semi-automatic rifles of various calibers to Canada for commercial resale.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-131.

July 12, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to Saudi Arabia for replacement of old machine guns, grenade launchers, lasers, night vision goggles, accessories, and spare parts and components that are in poor condition in their inventory.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-132.

April 17, 2018

The Honorable Paul D. Ryan, Speaker of the House of Representatives.

Dear Mr. Speaker:

Pursuant to Section 36(c) and (d) of the Arms Export Control Act, we are transmitting certification of a proposed license for the manufacture of significant military equipment abroad and the export of defense articles, including technical data, and defense services in the amount of $100,000,000 or more.

The transaction contained in the attached certification involves the export of defense articles, including technical data, and defense services to Japan to support the manufacture of Mk 46 Torpedo assemblies and components in Japan.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-133.

April 5, 2018

The Honorable Paul D. Ryan, Speaker of the House of Representatives.

Dear Mr. Speaker:

Pursuant to Section 36(c) of the Arms Export Control Act, we are transmitting certification of proposed license amendment for the export of defense articles, including technical data, and defense services in the amount of $50,000,000 or more.

The transaction contained in the attached certification involves the export of defense articles, including technical data, and defense services for the operation, training and maintenance of ScanEagle and Integrator Unmanned Aerial System for end use by the Royal Saudi Land Forces.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-134.

April 17, 2018

The Honorable Paul D. Ryan, Speaker of the House of Representatives.

Dear Mr. Speaker:

Pursuant to Section 36(c) of the Arms Export Control Act, we are transmitting certification of a proposed license amendment for the export of defense articles, including technical data, and defense services in the amount of $100,000,000 or more.

The transaction contained in the attached certification involves the export of defense articles, including technical data, and defense services to UK for the assembly of GPS Aided Inertial Navigation Systems (GAINS) and Manufacture of the Electronic and Mechanical Components and Parts for GAINS for use in Paveway Weapon Systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-136.

April 17, 2018

The Honorable Paul D. Ryan, Speaker of the House of Representatives.

Dear Mr. Speaker:

Pursuant to Section 36(c) of the Arms Export Control Act, we are transmitting certification of a proposed license amendment for the export of defense articles, including technical data, and defense services in the amount of $100,000,000 or more.

The transaction contained in the attached certification involves the export of defense articles, to include technical data, and defense services for the manufacture of control section units and associated electronics modules in the UK for the AIM-120 Advanced Medium Range Air-to-Air Missile for end-use by the United States of America.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-137.

April 17, 2018

The Honorable Paul D. Ryan, Speaker of the House of Representatives.

Dear Mr. Speaker:

Pursuant to Section 36(c) of the Arms Export Control Act, we are transmitting certification of a proposed license for the export of defense articles, including technical data, and defense services in the amount of $100,000,000 or more.

The transaction contained in the attached certification involves the export of defense articles, including technical data, and defense services to Australia to support the integration and operation, engineering support, training, testing, maintenance, and repair of AN/PRC-158 software defined tactical radio systems and the Network Planning and Management System for command and control/command, control, communications, computers, intelligence, surveillance and reconnaissance mission applications.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-138.

August 29, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of technical data and defense services to the UAE for infantry-related military training and other advisory assistance for the Presidential Guard Command.

The United States government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-139.

August 17, 2018

The Honorable Paul D. Ryan, Speaker of the House of Representatives.

Dear Mr. Speaker:

Pursuant to Section 36(c) and (d) of the Arms Export Control Act, we are transmitting certification of a proposed license for export for the manufacture of significant military equipment abroad and the export of defense articles, including technical data, and defense services in the amount of $50,000,000 or more.

The transaction contained in the attached certification involves the export of defense articles, including technical data, to Sweden for the manufacture of.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-142.

July 11, 2018

The Honorable Paul D. Ryan, Speaker of the House of Representatives.

Dear Mr. Speaker:

Pursuant to Section 36(d) of the Arms Export Control Act, we are transmitting certification of an amendment of a proposed license for the manufacture abroad of significant military equipment and the export of defense articles, including technical data, defense services in the amount of $100,000,000 or more.

The transaction contained in the attached certification involves the export of defense articles including defense services and technical data to Sweden for the manufacture of F404 RM12 gas turbine military aircraft engine parts and components.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-143.

July 25, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of technical data and defense services to India to provide P-8I aircraft in-country customer support, logistics support, aircraft health monitoring, engine condition monitoring, flight management database support, in-country aircraft field support, assorted repair and replacement spares, equipment maintenance, and updated technical manuals.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-144.

April 6, 2018

The Honorable Paul D. Ryan, Speaker of the House of the Representatives.

Dear Mr. Speaker:

Pursuant to Section 36(c) of the Arms Export Control Act, we are transmitting certification of a proposed license for the export of firearms, parts, and components abroad controlled under Category I of the United States Munitions List in the amount of $1,000,000 or more.

The transaction contained in the attached certification involves the export of semi-automatic pistols of various calibers to Canada for commercial resale.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-145.

July 31, 2018

The Honorable Paul D. Ryan, Speaker of the House of Representatives.

Dear Mr. Speaker:

Pursuant to Section 36(c) of the Arms Export Control Act, we are transmitting certification of a proposed license amendment for the export of defense articles, including technical data, and defense services in the amount of $50,000,000 or more.

The transaction contained in the attached certification involves the export of defense articles, including technical data, and defense services to UAE to establish a Patriot Weapon System Additional Equipment and Spares Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-146.

May 18, 2018

The Honorable Paul D. Ryan, Speaker of the House Representatives.

Dear Mr. Speaker:

Pursuant to Section 36(c) of the Arms Export Control Act, we are transmitting certification of a proposed license for the export of defense articles, including technical data, and defense services in the amount of $100,000,000 or more.

The transaction contained in the attached certification involves the export to Japan of defense articles, including technical data, and defense services to support the assembly, disassembly, alignment, test, integration, repair and maintenance of MTS-A Variants.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 17-147.

July 27, 2018

The Honorable Paul D. Ryan, Speaker of the House of Representatives.

Dear Mr. Speaker:

Pursuant to Section 36(c) of the Arms Export Control Act, we are transmitting certification of a proposed license for export of defense articles, including technical data, defense services in the amount of $100,000,000 or more.

The transaction contained in the attached certification involves the export of defense articles and technical data to Japan to support the installation, testing, maintenance, and repair of Mk15 Close-In Weapon System and the SeaRAM Weapon System for end use by the Japanese Ministry of Defense.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-003.

July 11, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to Japan, France, and Switzerland to support the design, development, manufacture, and final delivery of completed Boeing 777-300ER New Government Aircraft of Japan for use by the Japan Ministry of Defense.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters.,

Assistant Secretary Legislative Affairs.

Enclosure: Transmittal No. DDTC 18-004.

July 11, 2018

The Honorable Paul D. Ryan, Speaker of the House of Representatives.

Dear Mr. Speaker:

Pursuant to Section 36(c) of the Arms Export Control Act, we are transmitting certification of a proposed license for the export of firearms controlled under Category I of the United States Munitions List in the amount of $1,000,000 or more.

The transaction contained in the attached certification involves the export of semi-automatic pistols and rifles, bolt-action rifles to Canada for commercial resale.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-007.

June 27, 2018

The Honorable Paul D. Ryan, Speaker of the House of Representatives.

Dear Mr. Speaker:

Pursuant to Section 36(c) of the Arms Export Control Act, we are transmitting certification of a proposed license for the export of defense articles, including technical data, and defense services in the amount of $100,000,000 or more.

The transaction contained in the attached certification involves the export of defense articles, including technical data, and defense services to Italy to manufacture and/or assemble Millimeter Wave Front End Assemblies of the Guidance Section and Control Sections of AGM-88E Advanced Anti-Radiation Guided Missile for the Italian Ministry of Defense.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-008.

July 20, 2018

The Honorable Paul D. Ryan, Speaker of the House of Representatives.

Dear Mr. Speaker:

Pursuant to Section 36(d) of the Arms Export Control Act, we are transmitting certification of a proposed license for the export of defense articles, including technical data, and defense services for the manufacture of significant military equipment abroad.

The transaction contained in the attached certification involves the export of defense articles, including technical data, and defense services to Japan to support the manufacture of Drogue Rocket Motor and Propellant for end use in aircraft ejection seats for the Japanese Ministry of Defense.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs,

Enclosure: Transmittal No. DDTC 18-010.

July 27, 2018

The Honorable Paul D. Ryan, Speaker of the House of Representatives.

Dear Mr. Speaker:

Pursuant to Section 36(c) of the Arms Export Control Act, we are transmitting certification of a proposed license for the export of defense articles, including technical data, and defense services in the amount of $100,000,000 or more.

The transaction contained in the attached certification involves the export of defense services to the Netherlands to support the modernization of the Royal Netherlands Air Force fleet of six CH-47F(NL) Chinook Helicopters.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-011.

July 31, 2018

The Honorable Paul D. Ryan, Speaker of the House of Representative.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to UAE and UK to support the delivery, fielding, integration, inspection, maintenance, testing, training, and upgrade to Patriot Air Defense System Fire Units, equipment, and spares.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-016.

September 19, 2018

The Honorable Paul D. Ryan, Speaker of the House of Representatives.

Dear Mr. Speaker:

Pursuant to Section 36(c) of the Arms Export Control Act, we are transmitting certification of a proposed license for the export of firearms abroad controlled under Category I of the United States Munitions List in the amount of $1,000,000 or more.

The transaction contained in the attached certification involves the export to the Philippines of 9mm semi-automatic pistols to the Philippine Armed Forces.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-019.

July 27, 2018

The Honorable Paul D. Ryan, Speaker of the House of Representatives.

Dear Mr. Speaker:

Pursuant to Section 36(c) of the Arms Export Control Act, we are transmitting certification of a proposed export for the manufacture abroad of Significant Military Equipment and the export of defense articles, including technical data and defense services in the amount of $100,000,000 or more.

The transaction contained in the attached certification involves the export of defense articles, defense services, and technical data to Israel to support the installation, testing, maintenance, and repair of Trophy anti-tank active protection systems for end use by the Israel Ministry of Defense.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-020.

August 17, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to India to support the establishment of two P-8I aircraft training centers for the Indian Navy.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-022.

September 10, 2018

The Honorable Eliot L. Engel, Committee on Foreign Affairs.

Dear Mr. Engel:

Pursuant to Section 36(c) of the Arms Export Control Act, we are transmitting certification of a proposed license for the export of firearms, parts, and components abroad controlled under Category I of the U.S. Munitions List in the amount of $1,000,000 or more.

The transaction contained in the attached certification involves the export of automatic 5.56mm rifles to the UAE.

The U.S. government is prepared to license the export of these items having taken into account political, military, economic, human rights, and arms control considerations.

More detailed information is contained in the formal certification which, though unclassified, contains business information submitted to the Department of State by the applicant, publication of which could cause competitive harm to the U.S. firm concerned.

Sincerely,

Charles S. Faulkner,

Acting Assistant Secretary Legislative Affairs.

Enclosure: Transmittal No. DDTC 18-024.

July 11, 2018

The Honorable Paul D. Ryan, Speaker of the House of Representatives.

Dear Mr. Speaker:

Pursuant to Section 40(g)(2) of the Arms Export Control Act (AECA), we are transmitting a report containing information about a proposed transaction for the export and transfer of certain defense articles to U.S. contract employees engaged in supporting or facilitating ongoing U.S. military operations to counter terrorism in Syria.

The President has determined that the provision of defense articles and defense services to foreign forces, irregular forces, groups, or individuals engaged in supporting or facilitating ongoing U.S. military operations to counter terrorism in Syria is essential to the nation security interests of the United States. Enclosed with this letter are a copy of the President's determination and classified memorandum of justification for the determination.

The transaction that is the subject of the enclosed classified report involves the export of defense articles to Syria to enable the aforementioned recipients to safely support future U.S. counterterrorism operations in Syria. The proposed transaction will be authorized to proceed not less than 15 days after the date of this letter transmitting the report required pursuant to section 40(g)(2) of the AECA.

This report is being provided to the Speaker of the House of Representatives, the Committee on Foreign Affairs of the House of Representatives, and the chairman of the Committee on Foreign Relations of the Senate, as prescribed in section 40 of the AECA.

Sincerely,

Mary K. Waters,

Assistant Secretary Legislative Affairs.

Enclosure: Transmittal No. DDTC 18-031.

July 5, 2018

The Honorable Paul D. Ryan, Speaker of the House of Representatives.

Dear Mr. Speaker:

Pursuant to Section 36(c) of the Arms Export Control Act, we are transmitting certification of a proposed license for the export of firearms, parts, and components abroad controlled under Category I of the United States Munitions List in the amount of $1,000,000 or more.

The transaction contained in the attached certification involves the export of semi-automatic pistols to Canada for commercial resale.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-035.

June 27, 2018

The Honorable Paul D. Ryan, Speaker of the House of Representatives.

Dear Mr. Speaker:

Pursuant to Section 36(c) of the Arms Export Control Act, we are transmitting certification of a proposed license for the export of firearm parts and components abroad controlled under Category I of the U.S. Munitions List in amount of $1,000,000 or more.

The transaction contained in the attached certification involves the export of .223, .30, and 6.5mm caliber rifled barrel blanks to Canada for commercial re-sale.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs.

Enclosure: Transmittal No. DDTC 18-036.

August 17, 2018

The Honorable Paul D. Ryan, Speaker of the House of Representatives.

Dear Mr. Speaker:

Pursuant to Section 36(c) of the Arms Export Control Act, we are transmitting certification of a proposed license for the export of firearms, parts, and components abroad controlled under Category I of the U.S. Munitions List in the amount of $1,000,000 or more.

The transaction contained in the attached certification involves the export of fully-automatic rifles to Jordan for the Public Security Directorate.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary K. Waters,

Assistant Secretary Legislative Affairs,

Enclosure: Transmittal No. DDTC 18-043.

Anthony M. Dearth,
Chief of Staff, Directorate of Defense Trade Controls, U.S. Department of State.

[FR Doc. 2019-03516 Filed 2-27-19; 8:45 am]

BILLING CODE 4710-25-P